DEPARTMENT OF COMMERCE

National Oceanic and Atmospheric Administration

Agency Information Collection Activities; Submission to the Office of Management and Budget (OMB) for Review and Approval; Comment Request; Atlantic Highly Migratory Species Permit Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 14, 2024, during a 60-day comment period. This notice allows for an additional 30 days for public comments.

Agency: National Oceanic and Atmospheric Administration, Commerce.

Title: Atlantic Highly Migratory Species Permit Family of Forms.

OMB Control Number: 0648-0327.

Form Number(s): None.

Type of Request: Regular submission. Request for revision and extension of a current information collection.

Number of Respondents: 33,050.

Average Hours per Response: Application for Renewal of Atlantic HMS Permit, 10 minutes; Initial Application for an Atlantic HMS Permit, 35 minutes; one-time application for the IMO/LR number, 30 minutes.

Total Annual Burden Hours: 8,325.

Needs and Uses: This request is for the revision and extension of a current information collection, which includes both vessel and dealer permits.

Under the provisions of the Magnuson-Stevens Fishery Conservation and Management Act (Magnuson-Stevens Act; 16 U.S.C. 1801 et seq.), NMFS is responsible for management of the Nation's marine fisheries. In addition, NMFS must comply with the United States' obligations under the Atlantic Tunas Convention Act of 1975 (ATCA; 16 U.S.C. 971 et seq.).] Atlantic highly migratory species (HMS) fisheries are managed under the 2006 Consolidated HMS Fishery Management Plan (FMP) and its amendments pursuant to the Magnuson-Stevens Act and consistent with ATCA. HMS implementing regulations are at 50 CFR part 635. NMFS issues permits to fishing vessels and dealers in order to collect information necessary to comply with domestic and international obligations, secure compliance with regulations, and disseminate necessary information. Regulations at § 635.4 require that vessels participating in commercial and recreational fisheries for Atlantic HMS and dealers purchasing Atlantic HMS from a vessel obtain a Federal permit issued by NMFS.

This action addresses the renewal of permit applications currently approved under PRA 0648-0327. Vessel permits include Atlantic Tunas (except HMS limited access permits, including longline permits, and the HMS Caribbean Smallboat Permit, which are approved under PRA 0648-0205), HMS Charter/Headboat, HMS Angling, and Swordfish General Commercial permits. This action also includes the one-time requirement for commercial vessels greater than 20 meters in length to obtain an International Maritime Organization/Lloyd's Registry (IMO/LR) number.

This action is also being revised to include a new requirement for all HMS vessel permit applications to be submitted online starting in 2025, and the one-time requirement for all permit applicants to set up an account on the HMS permits website. The latter was implemented to make the program compatible with current federal data security requirements, and will make it easier for permit holders with multiple vessel permits to manage their permits by linking them all within a single account. Finally, the action is revised to remove the ability to submit an application for an Atlantic Tunas Purse Seine category permit, as the Atlantic Tunas Purse Seine category was discontinued as part of Amendment 13 to the 2006 Consolidated HMS Fishery Management Plan after years of inactivity in the bluefin tuna fishery. More information on that action can be found in the Amendment 13 final rule (87 FR 59966, October 3, 2022).

The burden estimates in this renewal are also being updated to reflect increases in the total number of permits issued each year, and a $1 increase in the price of HMS vessel permits to $27 per permit, due to increased costs associated with maintaining and executing the program.

Affected Public: Individuals or households; Business or other for-profit organizations.

Frequency: Annually for HMS permits; Once for a vessel IMO/LR number.

Respondent's Obligation: Mandatory.

Legal Authority: Magnuson-Stevens Fishery Conservation and Management Act (16 U.S.C. 1801 et seq.), and the Atlantic Tunas Convention Act of 1975 (16 U.S.C. 971 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0327.

Sheleen Dumas,
Department PRA Clearance Officer, Office of the Under Secretary for Economic Affairs, Commerce Department.

[FR Doc. 2024-19308 Filed 8-27-24; 8:45 am]

BILLING CODE 3510-22-P